DEPARTMENT OF HOMELAND SECURITY

Coast Guard

33 CFR Part 165

[Docket No. USCG-2016-0456]

Safety Zone; City of Charleston Independence Celebration, Charleston, WV

AGENCY: Coast Guard, DHS.

ACTION: Notice of enforcement of regulation.

SUMMARY: The Coast Guard will enforce safety zone for the City of Charleston Independence Celebration Fireworks on the Kanawha River from mile marker 58.1 to mile marker 59.1, in Charleston, WV on July 3, 2016. This action is needed to provide for the safety of life on navigable waterways during a fireworks display on or over the waterway. Our regulation for Recurring Marine Events in Captain of the Port Ohio Valley Zone identifies the safety zone for this fireworks display. During the enforcement period, no vessel may transit this regulated area without approval from the Captain of the Port or a designated representative.

DATES: The regulations in 33 CFR 165.801, Table 1, Sector Ohio Valley, No. 31 will be enforced from 9:15 p.m. until 10:15 p.m. on July 3, 2016.

FOR FURTHER INFORMATION CONTACT: If you have questions about this notice of enforcement, call or email MST3 Robert Miller, Marine Safety Unit Huntington, U.S. Coast Guard; telephone 304-733-0198, Robert.A.Miller2@uscg.mil.

SUPPLEMENTARY INFORMATION: The Coast Guard will enforce a safety zone for the annual City of Charleston Independence Celebration Fireworks listed in 33 CFR 165.801, Table 1, Sector Ohio Valley, No. 31, from 9:15 p.m. until 10:15 p.m. on July 3, 2016. This safety zone extends from mile marker 58.1 to mile marker 59.1 on the Kanawha River in Charleston, WV. This action is being taken to provide for the safety of life on navigable waterways during the fireworks display. Entry into this safety zone is prohibited unless authorized by the Captain of the Port Ohio Valley or a designated representative. Persons or vessels desiring to enter into or passage through the zone must request permission from the Captain of the Port Ohio Valley or a designated representative. If permission is granted, all persons and vessels shall comply with the instructions of the Captain of the Port Ohio Valley or designated representative.

This notice of enforcement is issued under authority of 33 CFR 165.801 and 5 U.S.C. 552 (a). In addition to this notice of enforcement in the Federal Register, the Coast Guard plans to provide notification of this enforcement period via the Local Notice to Mariners and updates via marine information broadcasts on channel 16.

R.V. Timme,
Captain, U.S. Coast Guard, Captain of the Port Ohio Valley.

[FR Doc. 2016-15505 Filed 6-29-16; 8:45 am]

BILLING CODE 9110-04-P